DEPARTMENT OF THE INTERIOR

Bureau of Land Management

[WO-250-1231-EB-24 1A and OMB Control Number 1004-0119]

Information Collection Submitted to the Office of Management and Budget Under the Paperwork Reduction Act

The Bureau of Land Management (BLM) has sent a request to extend the current information collection to the Office of Management and Budget (OMB) under the provisions of the Paperwork Reduction Act of 1995 (44 U.S.C. 3501 et seq.). On February 7, 2003, the BLM published a notice in the Federal Register (68 FR 6507) requesting comment on this information collection. The comment period ended on April 8, 1003. BLM received no comments. You may obtain copies of the collection of information and related forms of explanatory material by contacting the BLM Information Collection Clearance Officer at the telephone number listed below.

The OMB must respond to this request within 60 days but may respond after 30 days. For maximum consideration your comments and suggestions on the requirements should be directed within 30 days to the Office of Management and Budget, Interior Department Desk Officer (1004-0119), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Special Recreation Application and Permit (43 CFR 2930).

OMB Control Number: 1004-0119.

Bureau Form Number: 2930-1 (formerly 8370-1).

Abstract: Respondents supply identifying information on proposed commercial, competitive, or individual recreational use when required to determine the eligibility for a permit. BLM uses this information to authorize the requested use and determine the appropriate fees. BLM also uses this information to tabulate recreation use data for the annual Federal Recreation Fee Report as required by the Land and Water Conservation Act.

Frequency: On occasion.

Description of Respondents: Recreation visitors to areas of the public lands and related waters where BLM requires special recreation permits.

Estimated Completion Time: 30 minutes.

Annual Responses: 31,000.

Filing Fee Per Response: 0.

Annual Burden Hours: 15,500.

Bureau Clearance Officer: Michael Schwartz, (202) 452-5033.

Dated: March 16, 2004.
Michael H. Schwartz,
Bureau of Land Management, Information Collection Clearance Officer.

[FR Doc. 04-12021 Filed 5-26-04; 8:45 am]

BILLING CODE 4310-84-M